DEPARTMENT OF THE INTERIOR

Bureau of Indian Affairs

Indian Gaming

AGENCY: Bureau of Indian Affairs, Interior.

ACTION: Notice of Approved Tribal State Class III Gaming Compact.

SUMMARY: This notice publishes the Approval of the Class III Tribal-State Gaming Compact between the Chippewa-Cree Tribe of the Rocky Boy's Indian Reservation and the State of Montana.

DATES: Effective Date: February 13, 2013.

FOR FURTHER INFORMATION CONTACT: Paula L. Hart, Director, Office of Indian Gaming, Office of the Deputy Assistant Secretary—Policy and Economic Development, Washington, DC 20240, (202) 219-4066.

SUPPLEMENTARY INFORMATION: Under Section 11 of the Indian Gaming Regulatory Act of 1988 (IGRA) Public Law 100-497, 25 U.S.C. 2701 et seq., the Secretary of the Interior shall publish in the Federal Register notice of approved Tribal-State compacts for the purpose of engaging in Class III gaming activities on Indian lands. On December 27, 2012, the Chippewa-Cree Indians of the Rocky Boy's Reservation and the State of Montana submitted a Class III Tribal-State Compact for review and approval. The Compact increases the number of machines, increases the prize value and increases the wager limit. The term of the Compact runs for 10 years from the date of this notice.

Dated: February 4, 2013.
Kevin K. Washburn,
Assistant Secretary—Indian Affairs.

[FR Doc. 2013-03326 Filed 2-12-13; 8:45 am]

BILLING CODE 4310-4N-P